Memorandum of January 3, 2025

Designation of Officials of the Office of Science and Technology Policy To Act as Director

Memorandum for the Director of the Office of Science and Technology Policy

By the authority vested in me as President by the Constitution and the laws of the United States of America, including the Federal Vacancies Reform Act of 1998, as amended, 5 U.S.C. 3345 et seq. (the “Act”), it is hereby ordered that:

Section 1. Order of Succession. Subject to the provisions of section 2 of this memorandum, and to the limitations set forth in the Act, the following officials of the Office of Science and Technology Policy (OSTP), in the order listed, shall act as and perform the functions and duties of the office of the Director of OSTP (Director) during any period in which the Director has died, resigned, or otherwise become unable to perform the functions and duties of the office of Director:

(a) Any Associate Director of OSTP (including any Associate Director designated as the United States Chief Technology Officer), in order of seniority based on date of appointment to such position;

(b) Chief of Staff of OSTP;

(c) Any Deputy Director of OSTP (including any Deputy Director designated Principal Deputy Director or Principal Deputy United States Chief Technology Officer), in order of seniority based on date of appointment to such position; and

(d) General Counsel of OSTP.

Sec. 2. Exceptions. (a) No individual who is serving in an office listed in section 1 of this memorandum in an acting capacity shall, by virtue of so serving, act as Director pursuant to this memorandum.

(b) No individual who is serving in an office listed in section 1 of this memorandum shall act as Director unless that individual is otherwise eligible to so serve under the Act.

(c) Notwithstanding the provisions of this memorandum, the President retains discretion, to the extent permitted by law, to depart from this memorandum in designating an acting Director.

Sec. 3. Revocation. The Presidential Memorandum of January 13, 2017 (Designation of Officers or Employees of the Office of Science and Technology Policy to Act as Director), is hereby revoked.

Sec. 4. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) You are authorized and directed to publish this memorandum in the Federal Register.

THE WHITE HOUSE,

Washington, January 3, 2025

[FR Doc. 2025-00673

Filed 1-10-25; 8:45 am]

Billing code 3170-W0-P